COMMITTEE FOR PURCHASE FROM PEOPLE WHO ARE BLIND OR SEVERELY DISABLED

Procurement List: Additions

AGENCY: Committee for Purchase from People Who Are Blind or Severely Disabled.

ACTION: Additions to procurement list.

SUMMARY: This action adds to the Procurement List products and services to be furnished by nonprofit agencies employing persons who are blind or have other severe disabilities.

EFFECTIVE DATE: July 27, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: On June 28, October 18, 2002, January 10, March 7, April 18, April 25, and May 9, 2003, the Committee for Purchase From People Who Are Blind or Severely Disabled published notice (67 FR 34582, 64351, 68 FR 1434, 11036, 19188, 20371, and 24919) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

(End of Certification)

Accordingly, the following products and services are added to the Procurement List:

Products

Product/NSN: Enamel, Aerosol,

Flat Black—8010-01-505-1962,

Flat White—8010-01-505-1964,

Gloss Black—8010-01-505-1966,

Gloss White—8010-01-505-1968,

Gloss Olive Drab—8010-01-505-1970,

Gloss Red—8010-01-505-1971,

Gloss Yellow—8010-01-505-1973.

NPA: Lighthouse for the Blind, St. Louis, Missouri.

Contract Activity: GSA, Hardware & Appliances Center, Kansas City, Missouri.

Product/NSN: Quick Drop Mop Handles,

7920-00-NIB-0401 (Wood),

7920-00-NIB-0402 (Fiberglass),

7920-00-NIB-0403 (Vinyl Coated Metal).

NPA: New York City Industries for the Blind, Inc., Brooklyn, New York.

Contract Activity: Office Supplies & Paper Products Acquisition Center, New York, New York.

Services

Service Type/Location: Custodial & Grounds Maintenance, Cpt Alden D Allen AFRC, Horseheads, New York.

NPA: NYSARC, Inc., Seneca-Cayuga Counties Chapter, Waterloo, New York.

Contract Activity: 77th Regional Support Command (DOC), Fort Totten, New York.

Service Type/Location: Custodial & Grounds Maintenance, SSG Reynolds J King USARC, Ithaca, New York.

NPA: NYSARC, Inc., Seneca-Cayuga Counties Chapter, Waterloo, New York.

Contract Activity: 77th Regional Support Command (DOC), Fort Totten, New York.

Service Type/Location: Custodial & Grounds Maintenance, T-3 Olaf A. Frederiksen USARC, Penn Yan, New York.

NPA: Yates County Chapter NYSARC, Inc., Penn Yan, New York.

Contract Activity: 77th Regional Support Command (DOC), Fort Totten, New York.

Service Type/Location: Custodial Services, Basewide, Fort Leavenworth, Kansas.

NPA: The Helping Hand of Goodwill Industries Extended Employment SWS, Kansas City, Missouri.

Contract Activity: Army-Fort Leavenworth, Kansas.

Service Type/Location: Custodial Services, Social Security Administration, High Rise and Low Rise Buildings, Baltimore, Maryland,

NPA: Goodwill Industries of the Chesapeake, Inc., Baltimore, Maryland.

Contract Activity: Social Security Administration, Baltimore, Maryland.

Service Type/Location: Custodial Services, U.S. Border Station, Wellesley Island, Alexandria Bay, New York.

NPA: Jefferson County Chapter, NYSARC, Watertown, New York.

Contract Activity: GSA/PBS Upstate New York Service Center, Syracuse, New York.

Service Type/Location: Facilities Management, John F. Kennedy Presidential Library, Boston, Massachusetts.

NPA: Work, Incorporated, North Quincy, Massachusetts.

Contract Activity: National Archives & Records Administration, College Park, Maryland.

Service Type/Location: Janitorial/Custodial, Carl B. Stokes Federal Courthouse, Cleveland, Ohio.

NPA: VGS, Inc., Cleveland, Ohio.

Contract Activity: GSA, Public Buildings Service (5P), Chicago, Illinois.

Service Type/Location: Janitorial/Custodial, Combined Support Maintenance Shop, USPFO Warehouse (Building #2), USPFO Building #1, Springfield, Illinois.

NPA: Challenge Unlimited, Inc., Alton, Illinois.

Contract Activity: U.S. Property and Fiscal Office-IL, Springfield, Illinois.

Service Type/Location: Janitorial/Grounds Maintenance, Bureau of Alcohol, Tobacco and Firearms National Laboratory, Beltsville, Maryland.

NPA: Northwestern Workshop, Inc., Winchester, Virginia.

Contract Activity: Department of the Treasury, Bureau of ATF.

This action does not affect current contracts awarded prior to the effective date of this addition or options that may be exercised under those contracts.

Sheryl D. Kennerly,
Director, Information Management.

[FR Doc. 03-16314 Filed 6-26-03; 8:45 am]

BILLING CODE 6353-01-P